DEPARTMENT OF ENERGY

Federal Energy Regulatory Commission

[Project No. 14403-000]

FFP Project 110, LLC; Notice of Preliminary Permit Application Accepted for Filing and Soliciting Comments, Motions To Intervene, and Competing Applications

On May 1, 2012, the FFP Project 110, LLC filed an application for a preliminary permit under section 4(f) of the Federal Power Act proposing to study the feasibility of the proposed Mississippi River Lock and Dam #25—Project No. 14403, to be located at the existing Mississippi River Lock and Dam No. 25 on the Mississippi River, near the City of Winfield in Lincoln County, Missouri and Calhoun County, Illinois. The Mississippi River Lock and Dam No. 25 is owned by the United States government and operated by the United States Army Corps of Engineers.

The proposed project would consist of: (1) Fourteen new 60-foot by 60-foot reinforced concrete powerhouses, each containing two 500-kilowatt bulb turbine-generators, having a total combined generating capacity of 14 megawatts; (2) fourteen existing submersible tainter gates; (3) a new 40-foot by 35-foot substation; (4) a new 10-foot by 60-foot intake structure; (5) a new 3-mile-long, 34.5-kilovolt transmission line; and (6) appurtenant facilities. The project would have an estimated annual generation of 56 gigawatt-hours.

Applicant Contact: Ms. Ramya Swaminathan, 239 Causeway Street, Suite 300, Boston, MA 02114; (978) 283-2822.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of Commission's Web site at http://www.ferc.gov/docs-filing/elibrary.asp. Enter the docket number (P-14403) in the docket number field to access the document. For assistance, contact FERC Online Support.

Dated: May 21, 2012.
Kimberly D. Bose,
Secretary.

[FR Doc. 2012-12868 Filed 5-25-12; 8:45 am]

BILLING CODE 6717-01-P